NUCLEAR REGULATORY COMMISSION

[Docket Nos. 50-269, 50-270, and 50-287]

Duke Energy Corporation; Oconee Nuclear Station, Units 1, 2, and 3, Environmental Assessment and Finding of No Significant Impact

The U.S. Nuclear Regulatory Commission (NRC) is considering issuance of an amendment to the Duke Energy Corporation (the licensee/Duke) for operation of the Oconee Nuclear Station, Units 1, 2, and 3, Facility Operating License Nos. DPR-38, DPR-47, and DPR-55, respectively, located in Oconee County, Seneca, South Carolina.

Environmental Assessment

Identification of the Proposed Action

The proposed amendment would revise the Facility Operating Licenses by (a) deleting the license conditions that have been fulfilled by actions that have been completed, (b) changing the license conditions that have been superseded by the current plant status, and (c) incorporating other administrative changes. In particular, the proposed amendment would remove (1) License Condition 3.C.1 that requires the licensee to accumulate the information required to establish baselines for the evaluation of thermal, chemical, and radiological effects of station operation on terrestrial and aquatic biota in Lakes Keowee and Hartwell; (2) License Condition 3.C.2, which requires the licensee to develop and implement a comprehensive monitoring program that will permit surveillance during plant operation of thermal, chemical, and radiological effects of station operation on terrestrial and aquatic biota in Lakes Keowee and Hartwell; (3) License Condition 3.G, which requires the licensee to implement a secondary water chemistry program having specified attributes; (4) License Condition 3.H, which requires the licensee to implement a program having specified attributes to reduce leakage from certain systems outside containment; (5) License Condition 3.I, which requires the licensee to implement an iodine monitoring program having certain attributes; (6) License Condition 3.J, which requires the licensee to implement a program ensuring the capability to accurately monitor the Reactor Coolant System subcooling margin; and (7) License Condition 3.K, which incorporates into the licenses the additional conditions currently set forth in Appendix C to the license. The proposed action also corrects clerical errors or out-of-date information on the licenses.

The proposed action is in accordance with the licensee's application for an amendment dated January 27, 2000.

The Need for the Proposed Action

After the startup of Oconee, requirements related to the establishment of environmental programs and the performance of studies of the effects of plant operation on the environment have been regulated by other programs. These programs include the Environmental Protection Agency's (EPA's) National Pollution Discharge Elimination System program and Section 316(a) and 316(b) of the Clean Water Act and other EPA programs, the Oconee Environmental Technical Specifications and Offside Dose Calculations Manual, plant design and operation as described in the Updated Final Safety Analysis Report, and criteria contained in the Selected Licensee Commitments Manual.

In addition, the requirements in License Condition 3.G are equivalent to the requirements of Technical Specification (TS) 5.5.11, “Secondary Water Chemistry;” the requirements of License Condition 3.H are equivalent to those of TS 5.5.3, “Reactor Coolant Sources Outside Containment;” the requirements of License Condition 3.I are equivalent to those of TS 5.5.4, “Post Accident Sampling;” and the requirements of License Condition 3.J are equivalent to those of TS 5.5.17, “Backup Method for Determining Subcooling Margin.” Finally, the additional conditions currently set forth in Appendix C to the license, and which are required by License Condition 3.K, are all one-time or time-limited actions that have been completed and were adequately addressed.

Therefore, elimination of the license conditions that are the subject of this environmental assessment would delete (1) provisions for certain activities that are regulated by other government agencies or are being addressed by other programs, (2) requirements redundant to those in TS, and (3) requirements for one-time or time-limited actions that have been completed and were adequately addressed. This would eliminate unnecessary license conditions from the Facility Operating Licenses.

Environmental Impacts of the Proposed Action

The proposed action to implement the amendment would remove extraneous license conditions that (1) are now being regulated by other government agencies or were subsumed by other programs, (2) are redundant to TS, or (3) require actions that have been completed. The proposed action will not change the design of the facilities or the manner in which the licensee operates them. The staff has concluded that the proposed action will not significantly increase the probability or consequences of accidents, there are no changes being made in the types of any effluents that may be released offsite, and there is no significant increase in occupational or public radiation exposure. Therefore, the Commission concludes that there are no significant radiological environmental impacts associated with the proposed action.

With regard to potential nonradiological environmental impacts, the proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement for the Oconee Nuclear Station, Units 1, 2, and 3.

Agencies and Persons Consulted

In accordance with its stated policy, on March 6, 2000, the staff consulted with the South Carolina State official, Mr. Virgil L. Autry of the Division of Radiological Waste Management, Bureau of Land and Waste Management, Department of Health and Environmental Control, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated January 27, 2000, which is available for public inspection at the Commission's Public Document Room, The Gelman Building, 2120 L Street, NW., Washington, DC. Publically available records will be accessible electronically from the ADAMS Public Library component on the NRC Web site, http:\\www.nrc.gov (the Electronic Reading Room).

Dated at Rockville, Maryland, this 6th day of March 2000.
For the Nuclear Regulatory Commission.
Richard L. Emch, Jr.,
Section Chief, Section 1, Project Directorate II, Division of Licensing Project Management, Office of Nuclear Reactor Regulation.

[FR Doc. 00-6042 Filed 3-10-00; 8:45 am]

BILLING CODE 7590-01-P